DEPARTMENT OF THE INTERIOR

National Park Service

National Register of Historic Places; Notification of Pending Nominations and Related Actions

Nominations for the following properties being considered for listing or related actions in the National Register were received by the National Park Service before July 19, 2008. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by August 19, 2008.

J. Paul Loether,
Chief, National Register of Historic Places/National Historic Landmarks Program.

ARIZONA

Coconino County

Sedona Ranger Station, Brewer Rd. S. of Hart Rd., Sedona, 08000810.

ARKANSAS

Johnson County

Clarksville Commercial Historic District, Roughly bounded by McConnell St. on the S.; Cherry St. on the N.; Johnson St. on the W.; Spadra Creek on the E., Clarksville, 08000816.

Nevada County

Prescott Commercial Historic District, Roughly bounded by E. 3rd St., Walnut St., W. 3rd St. and Pine St., Prescott, 08000818.

Woodruff County

Augusta Commercial Historic District, Roughly bounded by 1st, Locust, Main, 2nd, and Pearl Sts., Augusta, 08000817.

DISTRICT OF COLUMBIA

District of Columbia

Danzansky Funeral Home, 3501 14th St., NW., Washington, 08000819.

George M. Baker Company Warehouse, 1525 7th St., NW., Washington, 08000820.

U.S. Department of Housing and Urban Development, 451 7th St., SW., Washington, 08000824.

U.S. Tax Court, 400 2nd St., NW., Washington, 08000821.

MARYLAND

Prince George's County

Langley Park, 8151 15th Ave., Langley Park, 08000809.

MISSOURI

Cape Girardeau County

Cape Girardeau Commercial Historic District (Boundary Increase II), (Cape Girardeau, Missouri MPS), 127 N. Water St., Cape Girardeau, 08000808.

Jackson County

Northeast Douglas Street Residential Historic District, (Lee's Summit, Missouri MPS), NE Douglas St. roughly between Elm and Maggie Sts., Lee's Summit, 08000803.

Northeast Forest Avenue and Northeast Green Street Residential Historic District, (Lee's Summit, Missouri MPS), 108, 110, 114 NE Forest Ave. and 310, 312 NE Green St., Lee's Summit, 08000804.

Northeast Green and 1st Streets Residential Historic District, (Lee's Summit, Missouri MPS), Roughly bounded by NE Douglas St., Maple St., 1st St., and NE Johnson St., Lee's Summit, 08000805.

Marion County

Clemens Field, 401 Collier, Hannibal, 08000807.

Miller County

Bagnell Dam and Osage Power Plant, 617 River Rd., Lake Ozark, 08000822.

St. Louis Independent City

Cook Avenue Methodist Episcopal Church, South, 3680 Cook Ave., St. Louis, 08000806.

MONTANA

Lewis and Clark County

Broadwater, Charles A., House, 1104 Williams St., Helena, 08000825.

Lincoln County

Libby High School, SW. corner of Mineral Ave. and E. Lincoln Blvd., Libby, 08000823.

NORTH CAROLINA

Avery County

Wise, Milligan Shuford, and Theron Colbert Dellinger Houses, 152 and 158 Hemlock Ln., 142 Dellinger Rd., 110 Pine St., Crossnore, 08000811.

Buncombe County

Norwood Park Historic District, District is bounded roughly on the W. and S. by Murdock St.; on the N. by Woodward Ave.; on the E. by Norwood Ave., Asheville, 08000815.

Durham County

Holloway, Kinchen, House, 4418 Guess Rd., Durham, 08000814.

Rutherford County

Melton-Davis House, 477 DePriest Rd., Bostic, 08000813.

Watauga County

Blair Farm, N. side of VA 1522 just W. of its jct. with Blairmont Dr., Boone, 08000812.

OHIO

Guernsey County

Taylor, Colonel Joseph, House, 633 Upland Rd., Cambridge, 08000801.

Hamilton County

Union Trust Building, 36 E. 4th St., Cincinnati, 08000802.

[FR Doc. E8-17750 Filed 8-1-08; 8:45 am]

BILLING CODE 4312-52-P